RAILROAD RETIREMENT BOARD

Privacy Act of 1974; New System of Records

AGENCY: U.S. Railroad Retirement Board (RRB).

ACTION: Notice of a new system of records.

SUMMARY: The Railroad Retirement Board (RRB) proposes to add a new system of records to its existing inventory of systems of records subject to the Privacy Act of 1974. This new system of records is titled: RRB-60, Religious and Reasonable Accommodation Records. We hereby publish this notice for public comments.

DATES: These changes become effective as proposed without further notice on December 20, 2021. We will file a report of these Systems of Records Notices with the Committee on Homeland Security and Governmental Affairs of the Senate; the Committee on Oversight and Government Reform of the House of Representatives; and the Office of Information and Regulatory Affairs, Office of Management and Budget (OMB).

ADDRESSES: Send comments to Stephanie Hillyard, Secretary to the Board, U.S. Railroad Retirement Board, 844 North Rush Street, Chicago, Illinois 60611-2092.

FOR FURTHER INFORMATION CONTACT: Chad Peek, Chief Privacy Officer, U.S. Railroad Retirement Board, 844 North Rush Street, Chicago, Illinois 60611-2092; telephone: 312-751-3389, email: chad.peek@rrb.gov.

SUPPLEMENTARY INFORMATION: In accordance with the Privacy Act of 1974, as amended, the RRB has determined that it needs to introduce a new system of records. The RRB proposes a new system of records, RRB-60, Religious and Reasonable Accommodation Records. The purpose of this system of records is to cover all records pertaining to requests for an accomodation for a disability or a sincerely held religious belief, practice, or observance under federal law. The records are maintained depending on the how the request is initiated. Records may be with the immediate supervisor or within the Bureau of Human Resources.

By Authority of the Board.
Stephanie Hillyard,
Secretary to the Board.

RRB-60

SYSTEM NAME AND NUMBER:

RRB-60, Religious and Reasonable Accommodation Records.

SECURITY CLASSIFICATION:

Controlled Unclassified Information (CUI).

SYSTEM LOCATION:

U.S. Railroad Retirement Board, 844 Rush Street, Chicago, Illinois 60611.

SYSTEM MANAGER(S):

Director of Human Resources, Office of Administration, U.S. Railroad Retirement Board, 844 North Rush Street, Chicago, Illinois 60611-2092.

AUTHORITY FOR MAINTENANCE OF THE SYSTEM:

a. 45 U.S.C. 231f(b)(9), Railroad Retirement Board Powers and Duties,

b. 29 U.S.C. 791, The Rehabilitation Act of 1973,

c. 42 U.S.C. 2000e et seq., Title VII of the Civil Rights Act of 1964,

d. 29 CFR 1605, Guidelines on Discrimination Because of Religion,

e. 29 CFR 1614, Federal Sector Equal Employment Opportunity,

f. Executive Order 13164, Requiring Federal Agencies to Establish Procedures to Facilitate the Provision of Reasonable Accommodation,

g. Executive Order 13548, Increasing Federal Employment of Individuals with Disabilities.

PURPOSE(S) OF THE SYSTEM:

The purpose of this system is to: (1) Allow RRB to collect and maintain records on prospective and active (as of the date of the request) employees who request or receive a reasonable accommodation by RRB based on a disabling medical condition; (2) allow RRB to collect and maintain records on prospective, and active (as of the date of the request) employees who request or receive an accommodation by RRB based on sincerely held religious beliefs, practices, or observances; (3) track and report the processing of requests for RRB in accordance with and to comply with applicable laws and regulations; and (4) preserve and maintain the confidentiality of medical and religious information submitted by or on behalf of applicants or employees requesting a reasonable accommodation.

CATEGORIES OF INDIVIDUALS COVERED BY THE SYSTEM:

Prospective, and active (at time of request), Railroad Retirement Board (RRB) employees who request, receive and/or are denied a reasonable accommodation for a disabling medical condition or a sincerely held religious belief, practice, or observance.

CATEGORIES OF RECORDS IN THE SYSTEM:

Name and relevant employment information of prospective or active (at time of request) employees needing an accommodation; requestor's name and contact information (if different than the employee who requested the accommodation); date request was initiated; information concerning the nature of the disability and the need for accommodation, including administratively acceptable documentation; information concerning the nature of the sincerely held religious belief, practice, or observance; why the accommodation is needed/justification for the requested accommodation, including any appropriate documentation; details of the accommodation request, such as: Type of accommodation requested; requested accommodation; how the requested accommodation would ensure the essential functions of the position would be performed; any additional information provided by the requestor related to the processing of the request; any documentation created as a result of the interactive process; any alternative accommodations; whether the request was approved (in whole or in part), modified or denied; whether the accommodation was approved for a set period of time; notification(s) to the employee and his/her supervisor(s) regarding the status and result of the requested accommodation; and, any other information collected or developed in connection with the request for a reasonable accomodation.

RECORD SOURCE CATEGORIES:

RRB employees.

ROUTINE USES OF RECORDS MAINTAINED IN THE SYSTEM, INCLUDING CATEGORIES OF USERS AND PURPOSES OF SUCH USES:

In addition to those disclosures generally permitted under 5 U.S.C. 552a(b) of the Privacy Act, all or a portion of the records or, information contained in this system may be disclosed to authorized entities, as is determined to be relevant and necessary, outside the RRB as a routine use pursuant to 5 U.S.C. 552a(b)(3) as follows:

Standard Disclosure 1.—Congressional. Disclosure may be made to a congressional office from the record of an individual in response to an inquiry from the congressional office made at the request of that individual if that individual would not be denied access to the information.

Standard Disclosure 2.—Presidential. Disclosure of relevant information from the record of an individual may be made to the Office of the President in response to an inquiry from that office made at the request of that individual or a third party on the individual's behalf if that individual would not be denied access to the information.

Standard Disclosure 3.—Contractors working for Federal Government. Disclosure may be made to contractors, grantees, experts, consultants, students, and others performing or working on a contract, service, grant, cooperative agreement, or other assignment for the Federal government, to the extent necessary to accomplish an RRB function related to this system of records.

Standard Disclosure 4.—Law Enforcement. Disclosure may be made to the appropriate agency, whether Federal, State, local, or foreign, charged with the responsibility of investigating, enforcing, or prosecuting a violation or potential violation of law, whether civil, criminal or regulatory in nature, and whether arising by general statute or particular program statute, or by regulation, rule or order issued pursuant thereto, or charged with enforcing or implementing the statute, rule, regulation, or order issued pursuant thereto, if the disclosure would be to an agency engaged in functions related to the Railroad Retirement Act or the Railroad Unemployment Insurance Act, or if disclosure would be clearly in the furtherance of the interest of the subject individual.

Standard Disclosure 5.—Breach Notification. Disclosure may be made, to appropriate agencies, entities, and persons when (1) the Railroad Retirement Board suspects or has confirmed that the security or confidentiality of information in the system of records has been compromised; (2) the Railroad Retirement Board has determined that as a result of the suspected or confirmed compromise there is a risk of harm to economic or property interests, identity theft or fraud, or harm to the security or integrity of this system or other systems or programs (whether maintained by the Railroad Retirement Board or another agency or entity) that rely upon the compromised information; and (3) the disclosure made to such agencies, entities, and persons is reasonably necessary to assist in connection with the Railroad Retirement Board's efforts to respond to the suspected or confirmed compromise and prevent, minimize, or remedy such harm.

To another Federal agency or Federal entity, when the RRB determines that information from this system of records is reasonably necessary to assist the recipient agency or entity in (1) responding to a suspected or confirmed breach or (2) preventing, minimizing, or remedying the risk of harm to individuals, the recipient agency, or entity (including its information systems, programs, and operations), the Federal Government, or national security, resulting from a suspected or confirmed breach.

Standard Disclosure 6.—National Archives. Disclosure may be made to the National Archives and Records Administration or other Federal government agencies for records management inspections being conducted under the authority of 44 U.S.C. 2904 and 2906.

Standard Disclosure 7.—Attorney Representative. Disclosure of non-medical information in this system of records may be made to the attorney representing such individual upon receipt of a written letter or declaration stating the fact of representation, if that individual would not be denied access to the information. Medical information may be released to an attorney when such records are requested for the purpose of contesting a determination either administratively or judicially.

In addition to the conditions of disclosure listed in 5 U.S.C. 552a(b) of the Privacy Act and the RRB's Standard Disclosures (above), the RRB may release these records:

a. Records may be disclosed to the Department of Justice, including Offices of the U.S. Attorneys; another Federal agency conducting litigation or in proceedings before any court, adjudicative, or administrative body; another party in litigation before a court, adjudicative, or administrative body; or to a court, adjudicative, or administrative body. Such disclosure is permitted only when it is relevant or necessary to the litigation or proceeding, and one of the following is a party to the litigation or has an interest in such litigation:

(1) RRB, or any component thereof;

(2) Any employee or former employee of RRB in his or her official capacity;

(3) Any employee or former employee of RRB in his or her capacity where the Department of Justice or RRB has agreed to represent the employee.

b. Records may be disclosed in response to a request for discovery or for the appearance or a witness, to the extent that what is disclosed is relevant to the subject matter involved in a pending judicial or administrative proceeding.

c. Relevant records from this system of records may be disclosed to an agency, organization, or individual for the purpose of performing an audit or oversight operations as authorized by law, but only such information as is necessary and relevant to such audit or oversight function when necessary to accomplish an agency function related to this system of records. Individuals provided information under this routine use are subject to the same Privacy Act requirements and limitations on disclosure as are applicable to RRB officers and employees.

d. Relevant records from this system of records may be disclosed to physicians or other medical professionals to provide them with or obtain from them the necessary medical documentation and/or certification for reasonable accommodations.

e. Relevant records from this system of records may be disclosed to another federal agency or commission with responsibility for labor or employment relations or other issues, including equal employment opportunity and reasonable accommodation issues, when that agency or commission has jurisdiction over reasonable accommodation issues.

f. Relevant records from this system of records may be disclosed to the Department of Labor (DOL), Office of Personnel Management (OPM), Equal Employment Opportunity Commission (EEOC), or Office of Special Counsel (OSC) to obtain advice regarding statutory, regulatory, policy, and other requirements related to reasonable accommodation.

g. Relevant records from this system of records may be disclosed to appropriate third-parties contracted by the Agency to facilitate mediation or other alternative dispute resolution procedures or programs.

h. Relevant records from this system of records may be disclosed to a Federal agency or entity authorized to procure assistive technologies and services in response to a request for reasonable accommodation.

POLICIES AND PRACTICES FOR STORING, RETRIEVING, ACCESSING, RETAINING, AND DISPOSING OF RECORDS IN THE SYSTEM:

STORAGE:

Paper and electronic media.

RETRIEVAL:

Records can typically be retrieved by any of the data elements below:

a. Name or other unique personal identifiers

SAFEGUARDS:

Paper: Maintained in areas not accessible to the public in locking filing cabinets. Access is limited to authorized RRB employees. The Bureau of Human Resources is controlled by key card locked doors. Building has 24 hour on-site security officers, closed circuit television monitoring and intrusion detection systems.

Electronic media: Computer, computer storage rooms and Cloud storage are restricted to authorized personnel; on-line query safeguards include a lock/unlock password system, a terminal oriented transaction matrix, role based access controls and audit trail. For computerized records electronically transmitted between headquarters and field office locations, system securities are established in accordance with National Institute of Standards and Technology (NIST) guidelines, including network monitoring, defenses in-depth, incident response and forensics. In addition to the on-line query safeguards, they include encryption of all data at rest and when transmitted and exclusive use of leased telephone lines.

RETENTION AND DISPOSAL:

Retained and disposal in accordance with National Archives and Records Administration (NARA), General Record Schedules, or RRB Records Disposition Schedules:

a. Paper: These records will be maintained permanently at RRB until their official retention period is established by the National Archives and Records Administration (NARA).

b. Electronic media: Storage drives and Cloud storage: Continually updated and permanently retained. When storage drives and Cloud storage or other electronic media are no longer serviceable, they are sanitized in accordance with NIST guidelines.

RECORD ACCESS PROCEDURES:

See Notification section below.

CONTESTING RECORD PROCEDURES:

See Notification section below.

NOTIFICATION PROCEDURES:

Requests for information regarding an individual's record should be in writing addressed to the Systems Manager identified above, including the full name and social security number of the individual. Before information about any record will be released, the System Manager may require the individual to provide proof of identity or require the requester to furnish an authorization from the individual to permit release of information.

EXEMPTIONS PROMULGATED FOR THE SYSTEM:

None.

HISTORY:

None.

[FR Doc. 2021-25380 Filed 11-18-21; 8:45 am]

BILLING CODE 7905-01-P